DEPARTMENT OF COMMERCE

National Oceanic and Atmospheric Administration

[I.D. 050203D]

Marine Mammals; File No. 981-1707

AGENCY: National Marine Fisheries Service (NMFS), National Oceanic and Atmospheric Administration (NOAA), Commerce.

ACTION: Notice of public meeting.

SUMMARY: NMFS will hold a public meeting regarding the scientific research proposed by Dr. Peter Tyack in a permit application and analyzed in a draft environmental assessment.

DATES: The meeting will be held on May 19, 2003, at 1 pm.

ADDRESSES: The meeting will be held at the NOAA Silver Spring Metro Center Complex, NOAA Science Center, 1301 East-West Highway, Silver Spring, MD 20910.

FOR FURTHER INFORMATION CONTACT: Carrie Hubard or Steve Leathery, 301-713-2289.

SUPPLEMENTARY INFORMATION: On April 23, 2003, notice was published in the Federal Register (68 FR 19974) that a request for a scientific research permit to take various cetacean species, including endangered whales, in the North Atlantic (including the Gulf of Mexico) and Mediterranean Sea had been submitted by Dr. Peter Tyack (Biology Department, Woods Hole Oceanographic Institution, Woods Hole, Massachusetts, 02453) and that a draft environmental assessment had been prepared on the proposed research. Comments on the application and/or the draft environmental assessment must be received by May 23, 2003. NMFS will hold a public meeting to inform interested parties of the proposed research and solicit comments on the application and accompanying draft environmental assessment.

Special Accommodations

This meeting is accessible to people with disabilities. Requests for sign language interpretation or other auxiliary aids should be directed to Carrie Hubard, 301-713-2289 (voice) or 301-713-0376 (fax), at least five days before the scheduled meeting date.

Dated: May 5, 2003.
Stephen L. Leathery,
Chief, Permits, Conservation and Education Division, Office of Protected Resources, National Marine Fisheries Service.

[FR Doc. 03-11484 Filed 5-7-03; 8:45 am]

BILLING CODE 3510-22-S